DEPARTMENT OF STATE

[Public Notice 4396]

Bureau of Educational and Cultural Affairs Request for Grant Proposals: Fulbright Foreign Student Conflict Resolution Program

SUMMARY: The Office of Academic Exchange Programs of the Bureau of Educational and Cultural Affairs announces an open competition for the Fulbright Foreign Student Conflict Resolution Program. Public and private accredited, post-secondary educational institutions meeting the provisions described in Internal Revenue Code section 26 USC 501(c)(3) may submit proposals to develop and implement a U.S.-based graduate level academic program in conflict resolution for up to 15 participants from the Middle East and North Africa.

Program Information

Overview

The Bureau created the Fulbright Foreign Student Conflict Resolution Program in 2000 to enhance non-governmental efforts to resolve political, social and sectarian conflicts within the Middle East and North Africa, and South Asia.

The program is intended to provide participants with the analytical tools and practical skills necessary to transform diverse problems into viable solutions in order to foster sustainable peacebuilding efforts. The Fulbright Foreign Student Conflict Resolution Program operates through a merit-based, open competition that selects talented individuals early in their professional careers who are engaged in the political, economic, social, and/or educational transformation of conflicts in their communities.

The Bureau's Office of Academic Exchange Programs administers the Fulbright Foreign Student Conflict Resolution Program with the assistance of cooperating agencies. The Office of Academic Exchange Programs is responsible for allocation of funding, policy guidance and administrative oversight. Applicants for the scholarships are recruited, screened, and nominated by Public Affairs Sections of the U.S. Embassy or Fulbright binational commissions. The cooperating agencies are responsible for program administration activities, including providing services in the following broad categories: Program planning and management; J-visa sponsorship and tracking; supervision and support services; special programs management; and reporting and evaluation.

The Bureau is seeking detailed proposals from colleges, universities, and consortia of colleges and universities that have an established reputation in the field of conflict transformation, conflict management, or conflict resolution. The lead institution in a consortium must have an accredited U.S. college or university and is responsible for submitting the grant proposal. Each proposal must document the lead institution's authority to represent all cooperating partners.

The proposed program should offer participants a choice between a non-degree, graduate certificate or master's degree; provide a substantive practical training component; and capstone experience. Participants should be well integrated into the campus community and academic program.

Applicant institutions must demonstrate expertise in conducting graduate programs for foreign students, and must have a minimum of four years experience in conducting international exchange programs. Bureau guidelines stipulate that awards to organizations with less than four years experience in conducting international exchanges are limited to $60,000. As it is expected that the budget for this program will exceed $60,000, organizations that cannot demonstrate at least four years experience will not be eligible under this competition.

The project director or one of the key program staff responsible for the academic program must have an advanced degree related to an area of conflict resolution. Programs must conform with Bureau requirements and guidelines outlined in the Solicitation Package. Bureau programs are subject to the availability of funds.

Guidelines

Pending availability of fiscal year 2004 funding, program activities should take place during period from August 1, 2004 to July 31, 2006. Participants will be recruited from the Middle East and North Africa and will be expected to begin their program in Fall 2004. The projected number of program participants is up to 15. The total Bureau budget for this program should not exceed $500,000.

The duration of an individual scholarship under the Fulbright Foreign Student Conflict Program should not exceed two years. Participants are expected to return to their home country upon completion of this program. Where there are compelling circumstances, at the discretion of the project director and the Bureau's program officer, students may receive a limited extension to complete their degrees. Summer periods may be used for a mix of academic professional and cultural enrichment activities.

Pending the successful administration of this program, and the availability of funds, the Bureau reserves the right to renew this grant in fiscal year 2005 to conduct a similar program for a group of up to 15 program participants from South Asia.

Requirements and Implementation

The proposal should respond to, and describe, the following major requirements:

A. Academic Program

The academic component should provide participants with a choice between a non-degree graduate certificate and master's degree in the field of conflict transformation, conflict management, or conflict resolution. The academic program should give participants a multidimensional view of applied conflict resolution in addition to the theoretical framework of sustainable peacebuilding. Participants should be enrolled full-time and considered in academic residence during the program. Proposals may also include English manage training for selected participants whose existing English skills need to be strengthened or refreshed. The academic program should not exceed 24 months in duration.

B. Practical Training/Internship

The proposal must demonstrate the applicant's ability to facilitate professional development opportunities, access to a strong internship network, and ability to place participants internships that are germane to conflict resolution. The practical training must compliment a student's academic program, be supervised by a faculty advisor, and supplement the stated program objectives. Participants are expected to engage in at least eight weeks of practical training. To support the mutual understanding goal of the Fulbright Program, the Bureau is particularly interested in opportunities for academic training related to U.S. institutions, society and culture that engage in conflict resolution.

C. Capstone Experience

The academic program should culminate in a capstone experience that encourages participants to integrate knowledge and experience gained while on the program, and its applicability to their home community.

D. Orientation

It is essential that participants be informed of American culture, society and norms, particularly diversity. Participants should be introduced to the general nature, philosophy and goals of U.S. higher education. Students should receive guidance from an academic advisor to assist them in choosing appropriate courses.

E. Housing

Provide appropriate graduate student housing or facilitate housing arrangements for program participants.

F. Student Services

Provide on-going advising and student services, conduct cross cultural counseling, and plan cultural and community enrichment activities for the participants.

G. Grants Benefits and Disbursements

Monitor and distribute approved grant payments (e.g., monthly maintenance allowance in accordance with the Institute for International Education's (IIE) annual “Monthly Maintenance Rate Report”), reimbursements (e.g., equipment and book allowances), and advances (e.g., professional development allowances). Proposals should address participant stipend levels in the narrative, including what expenses the stipend is intended to cover and the estimated monthly cost of housing provided to the participants. The current stipend level for a traditional Fulbright grant includes: (1) Monthly maintenance as set by IIE; (2) a one-time equipment allowance of $500 per person; (3) book allowance up to $950 per person each year; and (4) a one-time professional development allowance up to $2,500 per person.

H. Tax Assistance to Grantees

Insure compliance with the “Tax Reform Act of 1986” and assist program grantees with requirements for filing federal, state, and local tax returns. The applicant will calculate appropriate withholding from student grants and deposit withholding with the U.S. Treasury. End-of-year withholding reports should be provided to the Internal Revenue Service and the grantees; and grantees should be notified of the gross amount reported as taxable income. Applicants should note that specific countries represented in both regions hold tax-exempt treaties with the United States.

I. Professional Development and Cultural Enrichment Activities

Proposals should provide for program participants in their second year to attend the annual conference of the Association for Conflict Resolution. Proposals should plan for adjunct cultural and professional enhancement opportunities within the academic and civic communities that further the program's goals and exposes participants to American culture and society.

J. Alumni Network

The program seeks to develop a cadre of leaders with first-hand experience in the U.S. who are able to enhance non-governmental efforts at peacebuilding in their communities. Proposals should demonstrate how participants will be incorporated into an alumni network that fosters the development and expansion of professional relationships between program participants, and individuals in the U.S. and overseas.

Programs must comply with J-1 visa regulations. Please refer to Solicitation Package for further information.

Budget Guidelines

The total Bureau budget (program and administrative costs) for the program should not exceed $500,000. The Bureau funded administrative costs as defined in the budget details section of the solicitation package should not exceed $50,000. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification. Allowable costs for the program include the following:

(1) Tuition and fees.

(2) Housing.

(3) Participant monthly maintenance and allowances.

(4) Administrative costs not to exceed $50,000.

(5) Cultural enrichment and professional development activities.

The Bureau reserves the right to reduce, revise, or increase proposal budgets in accordance with the needs of the program, and availability of U.S. government funding. Please refer to the Solicitation Package for complete budget guidelines and formatting instructions.

The successful applicant will be required to submit interim and final financial reports, as directed by the Bureau, detailing expenditures. The Bureau should be consulted on the reprogramming of any funds.

Announcement Title and Number

All correspondence with the Bureau concerning this RFGP should reference the program title and number ECA/A/E/NEA-SA-04-CRP01.

FOR FURTHER INFORMATION CONTACT: The Office of Academic Exchanges, ECA/A/E/NEA-SA, Room 212, U.S. Department of State, SA-44, 301 4th Street, SW., Washington, DC 20547, telephone (202) 619-6863, fax (202) 205-2466 of Internet address aarmitag@pd.state.gov to request a Solicitation Package. The Solicitation Package contains detailed award criteria, required application forms, specific budget instructions, and standard guidelines for proposal preparation. Please specify Bureau Program Officer Alice Armitage on all inquiries and correspondence.

Please read the complete Federal Register announcement before sending inquiries or submitting proposals. Once the FRGP deadline has passed, Bureau staff may not discuss this competition with applicants until the proposal review process has been completed.

To Download a Solicitation Package via Internet

The entire Solicitation Package may be downloaded from the Bureau's Web site at http://exchanges.state.gov/education/RFGPs. Please read all information before downloading.

Deadline for Proposals

All proposal copies must be received at the Bureau of Educational and Cultural Affairs by 5 p.m. Washington, DC time on Wednesday, September 24, 2003. Faxed documents will not be accepted at any time. Documents postmarked the due date but received on a later date will not be accepted. Each applicant must ensure that the proposals are received by the above deadline.

Applicants must follow all instructions in the Solicitation Package. The original and seven copies of the application should be sent to: U.S. Department of State, Bureau of Educational and Cultural Affairs, Ref.: ECA/A/E/NEA-SA-04-CRP01, Program Management, ECA/EX/PM, SA-44, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs Section at the U.S. Embassy for its review, with the goal of reducing the time it takes to get embassy comments for the Bureau's grants review process.

Diversity, Freedom And Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Program and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

ECA through its cooperating agencies will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Overall Quality: Proposals should exhibit originality and substance, consonant with the highest standards of American education, and furthering the program's objectives. Program elements should be coherently and thoughtfully integrated.

2. Program Planning and Administration: Detailed proposal and relevant work plan should demonstrate substantive undertakings and logistical capacity. Proposal and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Project Evaluation: Proposals should include a plan to evaluate the activity's success, both as the activities unfold and at the end of the program. A draft survey questionnaire or other technique plus description of a methodology to use to link outcomes to original project objectives is recommended. Successful applicants will be expected to submit intermediate reports after each project component is concluded or quarterly whichever is less frequent.

9. Cost-effectiveness: Proposals should maximize cost-sharing through direct institutional contributions, in-kind support, and other private sector support. Overhead and administrative components should be kept as low as possible.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 30, 2003.
C. Miller Crouch,
Principal Deputy Assistant Secretary, Bureau of Educational and Cultural Affairs, Department of State.

[FR Doc. 03-17480 Filed 7-9-03; 8:45 am]

BILLING CODE 4710-05-M